ENVIRONMENTAL PROTECTION AGENCY

[EPA-HQ-OECA-2013-0356; FRL—9912-43-OEI]

Information Collection Request Submitted to OMB for Review and Approval; Comment Request; NESHAP for Group I Polymers and Resins (Renewal)

AGENCY: Environmental Protection Agency (EPA).

ACTION: Notice.

SUMMARY: The Environmental Protection Agency has submitted an information collection request (ICR), NESHAP for Group I Polymers and Resins (40 CFR Part 63, Subpart U) (Renewal) (EPA ICR No. 2410.03, OMB Control No. 2060-0665), to the Office of Management and Budget (OMB) for review and approval in accordance with the Paperwork Reduction Act (44 U.S.C. 3501 et seq.). This is a proposed extension of the ICR, which is currently approved through June 30, 2014, during a 60-day comment period. This notice allows for an additional 30 days for public comments. A fuller description of the ICR is given below, including its estimated burden and cost to the public. An Agency may not conduct or sponsor and a person is not required to respond to a collection of information unless it displays a currently valid OMB control number.

DATES: Additional comments may be submitted on or before July 28, 2014.

ADDRESSES: Submit your comments, referencing Docket ID Number EPA-HQ-OECA-2013-0356, to: (1) EPA online using www.regulations.gov (our preferred method), or by email to docket.oeca@epa.gov, or by mail to: EPA Docket Center, Environmental Protection Agency, Mail Code 28221T, 1200 Pennsylvania Ave. NW., Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number:(202) 564-0050; email address: yellin.patrick@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW., Washington, DC. The telephone number for the Docket Center is 202-566-1744. For additional information about EPA's public docket, visit: http://www.epa.gov/dockets.

Abstract: EPA promulgated revisions for the National Emission Standards for Hazardous Air Pollutants (NESHAP) for Group I Polymers and Resins. Potential respondents subject to the new requirements of the NESHAP include an estimated 5 existing facilities that produce butyl rubber, epichlorohydrin elastomer, ethylenepropylene rubber, neoprene rubber, and nitrile butadiene rubber. The burden attributable to this ICR consist of notification of front-end process vent limits, notification of backend operation limits, recordkeeping related to the new limits, and reports submitted to satisfy affirmative defense provisions.

Form Numbers: None.

Respondents/affected entities: Owners and operators of facilities that produce butyl rubber, epichlorohydrinelastomer, ethylene-propylene rubber, neoprene rubber, and nitrile butadienerubber.

Respondent's obligation to respond: Mandatory (40 CFR part 63, subpart U).

Estimated number of respondents: 5 (total).

Frequency of response: Initially, occasionally, and semiannually.

Total estimated burden: 315 hours (per year). Burden is defined at 5 CFR 1320.3(b).

Total estimated cost: $16,791 (per year), includes no annualized capital/startup nor any operation & maintenance costs.

Changes in the Estimates: There is an increase of 64 hours in the total estimated respondent burden compared with the ICR currently approved by OMB. This is due to an adjustment, not due to any program changes. The respondent burden increased because this ICR revised the hours associated with affirmative defense, using latest estimates provided by industry during consultation. The previous ICR covers the burden associated with initial compliance of the final standard, including one-time notification of performance tests and notifications of the back-end process limits. This burden decreased because this ICR assumes that existing facilities have already submitted initial notifications and reports, and covers the burden associated with on-going compliance.

Spencer Clark,
Acting Director, Collection Strategies Division.

[FR Doc. 2014-14903 Filed 6-25-14; 8:45 am]

BILLING CODE 6560-50-P